DEPARTMENT OF DEFENSE

Defense Acquisition Regulations System

48 CFR Parts 246, 252 and Chapter 2

RIN 0750-AF88

Defense Federal Acquisition Regulation Supplement; Quality Assurance Authorization of Shipment of Supplies (DFARS Case 2005-D024)

AGENCY: Defense Acquisition Regulations System, Department of Defense (DoD).

ACTION: Proposed rule with request for comments.

SUMMARY: DoD is proposing to amend the Defense Federal Acquisition Regulation Supplement (DFARS) to revise the criteria under which the contract administration office may permit a contractor to release supplies for shipment without Government authorization of the shipping documents. The proposed changes will enable the Government to provide for the appropriate level of contract quality assurance at source, based on product complexity and criticality and the contractor's record of quality control.

DATES: Comments on the proposed rule should be submitted in writing to the address shown below on or before June 23, 2008, to be considered in the formation of the final rule.

ADDRESSES: You may submit comments, identified by DFARS Case 2005-D024, using any of the following methods:

○ Federal eRulemaking Portal: http://www.regulations.gov. Follow the instructions for submitting comments.

○ E-mail: dfars@osd.mil. Include DFARS Case 2005-D024 in the subject line of the message.

○ Fax: 703-602-7887.

○ Mail: Defense Acquisition Regulations System, Attn: Mr. Mark Gomersall, OUSD (AT&L) DPAP (DARS), IMD 3C132, 3062 Defense Pentagon, Washington, DC 20301-3062.

○ Hand Delivery/Courier: Defense Acquisition Regulations System, Crystal Square 4, Suite 200A, 241 18th Street, Arlington, VA 22202-3402.

Comments received generally will be posted without change to http://www.regulations.gov, including any personal information provided.

FOR FURTHER INFORMATION CONTACT: Mr. Mark Gomersall, 703-602-0302.

SUPPLEMENTARY INFORMATION:

A. Background

This proposed rule amends DFARS 246.471 to provide for contractor release of supplies for shipment, without Government authorization of the shipping documents, based on criteria that consider product complexity and criticality and the contractor's record of quality control.

In addition, changes are proposed to DD Form 250, Material Inspection and Receiving Report. Since DoD forms are not published in the Federal Register or the Code of Federal Regulations, the proposed changes to DD Form 250 do not appear in the amendatory portion of this proposed rule, but are described as follows: The statements in Blocks 21a and 21b (Contract Quality Assurance) of DD Form 250 are proposed to be changed, from “CQA/ACCEPTANCE of listed items has been made by me or under my supervision and they conform to contract, except as noted herein or on supporting documents”, to “CQA/ACCEPTANCE has been subject to Government contract quality assurance surveillance”. The proposed changes provide for the representative signing the DD Form 250 at source to affirm that the appropriate quality assurance activities have been accomplished. The clause at DFARS 252.246-7000, Material Inspection and Receiving Report, is amended to specify that a contractor's submission of a receiving report constitutes the contractor's affirmation that the items listed on the report conform to contract requirements.

The existing DD Form 250 is available at http://www.dtic.mil/whs/directives/infomgt/forms/formsprogram.htm.

This rule was not subject to Office of Management and Budget review under Executive Order 12866, dated September 30, 1993.

B. Regulatory Flexibility Act

DoD does not expect this proposed rule to have a significant economic impact on a substantial number of small entities within the meaning of the Regulatory Flexibility Act, 5 U.S.C. 601, et seq., because the proposed rule primarily relates to the allocation of Government resources to quality assurance functions. Therefore, DoD has not performed an initial regulatory flexibility analysis. DoD invites comments from small businesses and other interested parties. DoD also will consider comments from small entities concerning the affected DFARS subparts in accordance with 5 U.S.C. 610. Such comments should be submitted separately and should cite DFARS Case 2005-D024.

C. Paperwork Reduction Act

The Paperwork Reduction Act does not apply, because the rule does not impose any information collection requirements that require the approval of the Office of Management and Budget under 44 U.S.C. 3501, et seq.

List of Subjects in 48 CFR Parts 246 and 252

Government procurement.

Michele P. Peterson,
Editor, Defense Acquisition Regulations System.

Therefore, DoD proposes to amend 48 CFR parts 246 and 252 and Appendix F to Chapter 2 as follows:

1. The authority citation for 48 CFR parts 246 and 252 and Appendix F to subchapter I continues to read as follows:

Authority: 41 U.S.C. 421 and 48 CFR Chapter 1.

PART 246—QUALITY ASSURANCE

2. Section 246.471 is amended as follows:

a. By removing paragraph (a)(4); and

b. By revising paragraph (b) heading and paragraph (b)(1) to read as follows:

246.471 Authorizing shipment of supplies.

* * * * *

(b) Alternative Procedures-Contractor Release for Shipment.

(1) The contract administration office may authorize, in writing, the contractor to release supplies for shipment when—

(i)(A) Products are non-complex or non-critical;

(B) Conformance will be validated by periodic assessments; and

(C) The contractor has a record of satisfactory quality; or

(ii)(A) Products are complex or critical;

(B) The authorization of the shipping papers by a representative of the contract administration office prevents expediency of shipment;

(C) The Government performs a systematic and continuing evaluation of the contractor's control of quality; and

(D) The contractor has a record of satisfactory quality, including that pertaining to preparation for shipment.

* * * * *

PART 252—SOLICITATION PROVISIONS AND CONTRACT CLAUSES

3. Section 252.246-7000 is amended by revising the clause date and adding paragraph (c) to read as follows:

252.246-7000 Material Inspection and Receiving Report.

* * * * *

Material Inspection and Receiving Report (XXX 2008)

* * * * *

(c) When submitting the receiving report (whether using DD Form 250 or WAWF), the Contractor is affirming that the items listed on the report conform to contract requirements, except as otherwise noted on the report.

Appendix F—Material Inspection and Receiving Report

4. Appendix F to chapter 2 is amended in Part 3, Section F-301, by revising paragraphs (b)(21)(i) and (ii), paragraph (b)(21)(iv)(A) introductory text, and paragraph (b)(21)(v)(B) introductory text to read as follows:

F-301 Preparation instructions.

* * * * *

(b) * * *

(21) * * *

(i) The words “subject to Government contract quality assurance surveillance” contained in the printed statements in Blocks 21a and 21b relate to quality and to the quantity of the items on the report. Do not modify the statements. Enter notes taking exception in Block 16 or on attached supporting documents with an appropriate block cross-reference.

(ii) When a shipment is authorized under alternative release procedures (see 246.471(b)), the contractor shall attach or include the appropriate signed certificate on the top copy of the DD Form 250 copies distributed to the payment office or attach or include the appropriate contractor certificate on the contract administration office copy when contract administration (Block 10 of the DD Form 250) is performed by the Defense Contract Management Agency (DCMA).

* * * * *

(iv) * * *

(A) The authorized Government representative shall—

* * * * *

(v) * * *

(B) When CQA and acceptance or acceptance is at destination, the authorized Government representative shall—

* * * * *

[FR Doc. E8-8696 Filed 4-22-08; 8:45 am]

BILLING CODE 5001-08-P